DEPARTMENT OF THE TREASURY

Departmental Offices/Federal Consulting Group; Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Federal Consulting Group within the Department of the Treasury is soliciting comments concerning the Government Web Site Customer Satisfaction Survey.

DATES: Written comments should be received on or before March 18, 2002 to be assured of consideration.

ADDRESSESES: Direct all written comments to the Federal Consulting Group, Attention: Bernard Lubran, 1700 G Street, NW., Washington, DC 20552, (202) 906-5642, bernie.lubran@ots.treas.gov.

FOR FURTHER INFORMATION CONTACT: Requests for additional information or copies of the form(s) and instructions should be directed to the Federal Consulting Group, Attention: Bernard Lubran, 1700 G Street, NW., Washington, DC 20552, (202) 906-5642, bernie.lubran@ots.treas.gov.

SUPPLEMENTARY INFORMATION: Title: Government Web Site Customer Satisfaction Survey.

OMB Number: New.

Abstract: The following summary of the proposed new information collection activity is designed to establish a means to consistently measure and compare customer satisfaction with federal government agency web sites within the Executive Branch. The Federal Consulting Group of the Department of the Treasury has partnered with ForeSeeResults, a joint venture between Compuware Corporation and the CFI Group, to offer this survey instrument to federal government agencies (the “partnership”).

ForeSeeResults is a leader in customer satisfaction and customer experience management on the web. It utilizes the methodology of the most respected, credible, and well-known measure of customer satisfaction in the country, the American Customer Satisfaction Index (ACSI). This methodology utilizes an econometric model and provides for a very precise measurement of customer satisfaction of web site users, identifies specific areas for improvement, and determines the impact of those improvements on customer satisfaction and future customer behaviors. The ACSI is a cross-industry, cross-agency methodology for obtaining comparable measures of customer satisfaction. Along with other economic objectives, the quality of output of goods and services is a part of measuring living standards. The ACSI's ultimate purpose is to help improve the quality of goods and services available to the American people.

The Government Web Site Customer Satisfaction surveys will be completed subject to the Privacy Act 1074, Public Law 93-579, December 31,1974 (5 U.S.C. 522a). The agency information collection will be used solely for the purpose of the survey. The partnership will not be authorized to release any agency information upon completion of the survey without first obtaining permission from the Federal Consulting Group and the participating agency. In no case shall any new system of records containing privacy information be developed by the Federal Consulting Group, participating agencies, or the contractor collecting the data.

This survey asks no questions of a sensitive nature, such as sexual behavior and attitudes, religious beliefs, and other matters that are commonly considered private.

Current Actions: Newly proposed collection of information.

Type of Review: New collection.

Affected Public: Individuals or households/Business or other for-profit/Not-for-profit institutions/Farms/Federal Government/State, Local or Tribal Government.

Estimated Number of Respondents: Usage by federal agencies of the Government Web Site Customer Satisfaction Survey is expected to vary as new agency web sites are added or deleted. However, projected estimates for fiscal years 2002 through 2004 are as follows:

Fiscal Year 2002—10 Customer Satisfaction Surveys

Respondents: 50,000; annual responses: 50,000; average minutes per response: 2.0; burden hours: 1,666.

Fiscal Year 2003—20 Customer Satisfaction Surveys

Respondents: 100,000; annual responses: 100,000; average minutes per response: 2.0; burden hours: 3,333

Fiscal Year 2004—30 Customer Satisfaction Surveys

Respondents: 150,000; annual responses: 150,000; average minutes per response: 2.0; burden hours: 5,000

Requst for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: January 8, 2002.
Bernard A. Lubran,
Project Manager, Federal Consulting Group.

[FR Doc. 02-906 Filed 1-14-02; 8:45 am]

BILLING CODE 4810-25-P